DEPARTMENT OF COMMERCE

National Oceanic and Atmospheric Administration

[I.D. 060704A]

Proposed Information Collection; Comment Request; NOAA Customer Surveys

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before August 13, 2004.

ADDRESSES: Direct all written comments to Diana Hynek, Departmental Paperwork Clearance Officer, Department of Commerce, Room 6625, 14th and Constitution Avenue, NW, Washington, DC 20230 (or via the Internet at dHynek@doc.gov).

FOR FURTHER INFORMATION CONTACT: Requests for additional information or copies of the information collection instrument and instructions should be directed to Eugene McDowell, NOAA CIO/PPA1, 1315 East-West Highway, Silver Spring, MD 20910 (phone 301-713-3333 x207).

SUPPLEMENTARY INFORMATION:

I. Abstract

The National Oceanic and Atmospheric Administration (NOAA) is planning to seek renewed Paperwork Reduction Act approval for a generic clearance for customer surveys conducted by NOAA's program offices. Under the generic clearance, specific surveys are submitted to OMB for fast-track approval if they are consistent with the types of questions approved in the generic clearance. NOAA uses the surveys to determine whether customers are satisfied with products and services received and to solicit suggestions for improvements.

II. Method of Collection

Various methods are used, but the primary method is either a paper or electronic form.

III. Data

OMB Number: 0648-0342.

Form Number: None.

Type of Review: Regular submission.

Affected Public: Individuals and households, Business and other for-profit organizations, Not-for-profit institutions, and State, Local, or Tribal government.

Estimated Number of Respondents: 70,000.

Estimated Time Per Response: Response times vary with the specific survey, but average 15 minutes or less.

Estimated Total Annual Burden Hours: 8,000.

Estimated Total Annual Cost to Public: $10,000.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 4, 2004.
Gwellnar Banks,
Management Analyst, Office of the Chief Information Officer.

[FR Doc. 04-13199 Filed 6-10-04; 8:45 am]

BILLING CODE 3510-22-S